DEPARTMENT OF DEFENSE

Department of the Army, Corps of Engineers

Notice of Availability of a Draft Integrated General Reevaluation Report and Environmental Assessment and Draft Finding of No Significant Impact for the Proposed Lower Pajaro River Flood Risk Management Project, Monterey and Santa Cruz Counties, CA

AGENCY: Department of the Army, U.S. Army Corps of Engineers, DoD.

ACTION: Notice of availability.

SUMMARY: The U.S. Army Corps of Engineers (USACE), San Francisco District, announces the availability for review and comment of the draft integrated General Reevaluation Report and Environmental Assessment (GRR/EA) and the draft Finding of No Significant Impact (FONSI) for the proposed Pajaro River Flood Risk Management Project, Monterey and Santa Cruz Counties, CA., USACE Procedures for Implementing [the National Environmental Policy Act] NEPA, notice of the availability of this draft GRR/EA and draft FONSI for review and comment is being provided to agencies, organizations, and the interested public.

DATES: Comments on the draft GRR/EA and draft FONSI may be submitted starting October 31, 2017, through November 30, 2017. If comments are provided by mail, they must be received at the address below no later than November 30, 2017.

ADDRESSES: The draft GRR/EA can be viewed online starting October 31, 2017, at: http://www.spn.usace.army.mil/Missions/Projects-and-Programs/Projects-by-Category/Projects-for-Flood-Risk-Management/Pajaro-River-Watsonville/. Comments may be submitted on the draft GRR/EA using any of the following methods:

• Mail: U.S. Army Corps of Engineers, San Francisco District, ATTN: CESPN-ET-PB-Pajaro River, 1455 Market Street, San Francisco, CA 94103-1398.

• Email: CESPN-ET-PB@usace.army.mil.

• Comment letters should include the commenter's physical mailing address and include “Pajaro River” in the subject line.

FOR FURTHER INFORMATION CONTACT: Mr. Christopher Eng, U.S. Army Corps of Engineers, San Francisco District, 1455 Market Street, San Francisco, CA 94103-1398. Telephone: (415) 503-6868. Email: CESPN-ET-PB@usace.army.mil.

SUPPLEMENTARY INFORMATION:

1. Proposed Action. USACE and the non-Federal study partners, Monterey and Santa Cruz Counties, propose to reduce flood risk to the City of Watsonville and the town of Pajaro by implementing a combination of structural measures along the lower Pajaro River, Salsipuedes Creek, and Corralitos Creek. These measures include: Improving existing levees; constructing new levees, including setback levees; and constructing new floodwalls. The draft GRR/EA presents the draft findings of the General Reevaluation Study and identifies and describes the benefits, costs, and environmental effects of alternatives plans to reduce flood risk to the city of Watsonville, town of Pajaro, and surrounding area. Based on the evaluation, USACE has identified a Federal interest in at least one alternative plan, the Tentatively Selected Plan (TSP), to reduce the risk of flooding while minimizing adverse environmental effects. The TSP is the National Economic Development Plan (NED). The environmental review conducted as part of this study has initially concluded that, with mitigation, the proposed alternatives would not result in any significant environmental effects. This review and its findings are documented in the draft GRR/EA.

2. Alternatives. Ten project alternatives, including the no action alternative, have been evaluated in detail in the draft GRR/EA in accordance with NEPA (33 CFR part 230 (USACE NEPA Regulations) and 33 CFR part 325, Appendix B (NEPA Implementation Procedures for USACE Regulatory Projects).

3. Changes Since Publication of the Notice of Intent (NOI). An NOI was published in the Federal Register on June 8, 2001, (66 FR 30894) to advise the interested public and agencies that USACE planned to prepare a combined EIS/EIR for the Pajaro River Flood Risk Management Study. Since publication of the NOI, USACE and Monterey and Santa Cruz Counties have worked with stakeholders to identify and incorporate measures to avoid, minimize, and compensate for adverse environmental effects. As a result, the environmental review conducted as part of this study has initially concluded that, with mitigation, the proposed alternatives would not result in any significant environmental effects. Therefore, an EA has been prepared instead of an EIS. Also, USACE now requires water resources planning and NEPA documents to be integrated into a single document, in this case, an integrated GRR/EA. The California Environmental Quality Act (CEQA) document for the study is being prepared separately by Santa Cruz and Monterey Counties as the CEQA lead agencies.

c. USACE is consulting with the State Historic Preservation Officer and with Native American Tribes to comply with the National Historic Preservation Act, and with the U.S. Fish and Wildlife Service and National Marine Fisheries Service to comply with the Endangered Species Act. USACE is also coordinating with the U.S. Fish and Wildlife Service to comply with the Fish and Wildlife Coordination Act.

4. Availability of the Draft EA. The draft GRR/EA and draft FONSI are available for public review and comment 30 days beginning October 31, 2017 and ending November 30, 2017.

5. A public meeting to discuss the status of the study, present the draft results of the GRR/EA, and receive questions and comments will be held on November 8, 2017, from 6:00 p.m. to 8:00 p.m. at the Watsonville Civic Plaza Community Room, 275 Main Street, 4th Floor, Watsonville, California 95076-5133.

Dated: October 18, 2017.
Travis J. Rayfield,
Lieutenant Colonel, U.S. Army, District Commander.

[FR Doc. 2017-23276 Filed 10-25-17; 8:45 am]

BILLING CODE 3720-58-P